DEPARTMENT OF THE TREASURY

Submission for OMB Review; Comment Request

February 28, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before April 5, 2006 to be assured of consideration.

Internal Revenue Service (IRS)

OMB Number: 1545-0132.

Type of Review: Extension.

Title: Amended U.S. Corporation Income Tax Return.

Form: IRS Form 1120X.

Description: Domestic corporations use Form 1120X to correct a previously filed Form 1120 or 1120-A. The data is used to determine if the correct tax liability has been reported.

Respondents: Business or other for-profit; Farms.

Estimated Total Burden Hours: 300,582 hours.

OMB Number: 1545-0260.

Type of Review: Extension.

Title: Certificate of Payment of Foreign Death Tax.

Form: IRS Form 706-CE.

Description: Form 706-CE is used by the executors of estates to certify that foreign death taxes have been paid so that the estate may claim the foreign death tax credit allowed by IRS section 2014. The information is used by IRS to verify that the proper tax credit has been claimed.

Respondents: Individuals or households.

Estimated Total Burden Hours: 3,870 hours.

OMB Number: 1545-1499.

Type of Review: Revision.

Title: Revenue Procedure 2006-10 Acceptance Agents.

Description: Revenue Procedure 2006-10 describes application procedures for becoming an acceptance agent and the requisite agreement that an agent must execute with IRS.

Respondents: Individuals or households; Business or other for-profit; Not-for-profit institutions; Federal Government; State, Local or Tribal Government.

Estimated Total Burden Hours: 24,960 hours.

OMB Number: 1545-1536.

Type of Review: Extension.

Title: Guidance Regarding Charitable Remainder Trusts and Special Valuation Rules for Transfers of Interests in Trusts REG-209823-96 (Final).

Description: The recordkeeping requirement in the regulation provides taxpayers with an alternative method for complying with Congressional intent regarding charitable remainder trusts. The recordkeeping alternative may be less burdensome for taxpayers.

Respondents: Business or other for-profit.

Estimated Total Burden Hours: 75 hours.

OMB Number: 1545-1806.

Type of Review: Extension.

Title: Asset Allocation Statement Under 338.

Form: IRS Form 8883.

Description: Form 8883 is used to report information regarding transactions involving the deemed sale of corporate assets under section 338.

Respondents: Business or other for-profit.

Estimated Total Burden Hours: 4,929 hours.

OMB Number: 1545-1831.

Type of Review: Extension.

Title: REG-106486-98 (Final) Guidance Regarding the Treatment of Certain Contingent Payment Debt Instructions with one or more Payments that are Denominated in, or Determined by Reference to, a Nonfunctional Currency.

Description: The IRS needs the information from the holder of certain debt instruments in order to alert the agency that the computation of interest income/expense by the holder and issuer will not be consistent. The respondents will be holders of contingent payment debt instruments which require payments to be made in or by reference to foreign currency. The respondents will probably be investment banks, however, may also include others who hold these debt instruments for investments.

Respondents: Business or other for-profit.

Estimated Total Burden Hours: 100 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-3117 Filed 3-3-06; 8:45 am]

BILLING CODE 4830-01-P